DEPARTMENT OF HOUSING AND URBAN DEVELOPMENT

[Docket No. FR-5194-N-12]

Notice of Proposed Information Collection: Comment Request; Moving to Work Demonstration: Elements for the Annual MTW Plans and Annual MTW Reports

AGENCY: Office of the Assistant Secretary for Public and Indian Housing, HUD.

ACTION: Notice of proposed information collection.

SUMMARY: The proposed information collection requirement described below will be submitted to the Office of Management and Budget (OMB) for review, as required by the Paperwork Reduction Act. The Department is soliciting public comments on the subject proposal.

DATES: Comments Due Date: September 22, 2008.

ADDRESSES: Interested persons are invited to submit comments regarding this proposal. Comments should refer to the proposal by name/or OMB Control Number and should be sent to: Lillian L. Deitzer, Departmental Reports Management Officer, ODAM, Department of Housing and Urban Development, 451 7th Street, SW., Room 4178, Washington, DC 20410-5000; telephone 202.402.8048 (this is not a toll-free number), or e-mail Ms. Deitzer at Lillian.I.Deitzer@hud.gov for a copy of the proposed forms, or other available information.

FOR FURTHER INFORMATION CONTACT: Mary Schulhof, Office of Policy, Programs and Legislative Initiatives, PIH, Department of Housing and Urban Development, 451 7th Street, SW., Room 4116, Washington, DC 20410; telephone 202-708-0713 (this is not a toll-free number).

SUPPLEMENTARY INFORMATION: The Department will submit the proposed information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Moving to Work Demonstration: Elements for the Annual MTW Plans and Annual MTW Reports.

OMB Control Number: 2577-0216.

Description of the need for the information and proposed use. This collection of information is a revision to the information collection under Paperwork Reduction Act Submission (PRA) 2577-0216 under ICR Reference Number 200604-2577-001 that was approved by OMB on June 8, 2006. This revision to the information collection makes certain changes to the approved information collection in order to make it consistent with the Standard MTW Agreement that HUD conveyed to MTW agencies on January 4, 2008.

Agency form number, if applicable: HUD-50900.

Members of affected public: Public housing agencies that participate in the Moving to Work demonstration.

Estimation of the total number of hours needed to prepare the information collection including number of respondents: The estimated number of respondents is 29 PHAs that submit annual MTW Plans and Reports. The total reporting burden is 2,349 hours.

Status of the proposed information collection: Revision to currently approved collection.

Authority: Section 3506 of the Paperwork Reduction Act of 1995, 44 U.S.C. Chapter 35, as amended.

Dated: July 17, 2008.
Bessy Kong,
Deputy Assistant Secretary for Policy, Programs, and Legislative Initiatives.

[FR Doc. E8-16897 Filed 7-23-08; 8:45 am]

BILLING CODE 4210-67-P